DEPARTMENT OF AGRICULTURE

Rural Utilities Service

7 CFR Part 1710

RIN 0572-AB71

Notice of Confirmation of Direct Final Rule

AGENCY: Rural Utilities Service, USDA.

ACTION: Notice of confirmation of direct final rule.

SUMMARY: The Rural Utilities Service (RUS) hereby gives notice that no adverse comments were received regarding the direct final rule establishing rules and regulations to administer the Treasury Rate Direct Loan Program, and confirms the effective date of the direct final rule.

DATES: The direct final rule published in the Federal Register on December 26, 2001 (66 FR 66293) is effective February 11, 2002.

FOR FURTHER INFORMATION CONTACT: Robert O. Ellinger, Chief, Policy Analysis and Loan Management Staff, U.S. Department of Agriculture, Rural Utilities Service, Electric Program, Room 4041 South Building, Stop 1560, 1400 Independence Ave., SW., Washington, DC 20250-1560, Telephone: (202) 720-0424, FAX (202) 690-0717, E-mail: rellinge@rus.usda.gov.

SUPPLEMENTARY INFORMATION:

Background

In fiscal year 2001, Congress provided funding to establish a Treasury rate loan program to address the backlog of qualified loan applications for insured municipal rate electric loans from RUS. RUS administered the Treasury rate loan program in a manner substantially the same as it administered the municipal rate program under a Notice of Funding Availability (NOFA) published in the Federal Register at 65 FR 80830 on December 22, 2000. Title III of the Agriculture, Rural Development, Food and Drug Administration, and Related Agencies Appropriations Act, 2002 ( Pub. L. 107-76) authorizes a Treasury rate electric loan program of $750 million for FY 2002. RUS is amending its regulations to establish rules and regulations to administer the Treasury rate loan program.

Confirmation of Effective Date

This is to confirm the effective date of February 11, 2002, 7 CFR part 1710, Treasury Rate Direct Loan Program, published in the Federal Register on December 26, 2001, at 66 FR 66293.

Dated: January 29, 2002.
Hilda Gay Legg,
Administrator, Rural Utilities Service.

[FR Doc. 02-3288 Filed 2-11-02; 8:45 am]

BILLING CODE 3410-15-P